DEPARTMENT OF ENERGY

U.S. Energy Information Administration

Agency Information Collection Proposed Extension

AGENCY: U.S. Energy Information Administration (EIA), Department of Energy (DOE).

ACTION: Notice and request for comments.

SUMMARY: EIA invites public comment on the proposed three-year extension, without change, to the Generic Clearance for the Collection of Qualitative Feedback on Agency Service Delivery, pursuant to the Paperwork Reduction Act of 1995. This generic clearance enables EIA to collect customer and stakeholder feedback from the public on service delivery in an efficient and timely manner to ensure that EIA's programs effectively meet our customers' needs and to collect feedback on improving service delivery to the public.

DATES: EIA must receive all comments on this proposed information collection no later than February 7, 2022. If you anticipate any difficulties in submitting your comments by the deadline, contact the person listed in the ADDRESSES section of this notice as soon as possible.

ADDRESSES: Submit comments electronically to Gerson Morales by email at Gerson.Morales@eia.gov.

FOR FURTHER INFORMATION CONTACT: Gerson Morales, U.S. Energy Information Administration, telephone (202) 586-7077, or by email at Gerson.Morales@eia.gov.

SUPPLEMENTARY INFORMATION: This information collection request contains:

(1) OMB No.: 1905-0210;

(2) Information Collection Request Title: Generic Clearance for the Collection of Qualitative Feedback on Agency Service Delivery;

(3) Type of Request: Three-year extension without change;

(4) Purpose: This information collection activity provides a means to collect qualitative customer and stakeholder feedback in an efficient timely manner, in accordance with the Administration's commitment to improving service delivery. Qualitative feedback means data that provide useful insights on perceptions and opinions but are not statistical surveys that yield quantitative results that can be generalized to the population of the study. This feedback provides insights into customer or stakeholder perceptions, experiences, and expectations. It also provides an early warning of issues with service, or focuses attention on areas where communication, training or changes in operations might improve the accuracy of data report on survey instruments or the delivery of products or services. These collections allow for ongoing, collaborative, and actionable communications between the agency and its customers and stakeholders. It also allows feedback to contribute directly to the improvement of program management. EIA will only submit a collection for approval under this generic clearance if it meets the following conditions:

• Information gathered will be used only internally for general service improvement and program management purposes and is not intended for release outside of the agency;

• Information gathered will not be used for the purpose of substantially informing influential policy decisions;

• Information gathered will yield qualitative information; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future; and

• With the exception of information needed to provide remuneration for participants of focus groups and cognitive laboratory studies, personally identifiable information (PII) is collected only to the extent necessary and is not retained.

If these conditions are not met, EIA will submit an information collection request to OMB for approval through the normal PRA process. The solicitation of feedback on Agency Service Delivery includes topics such as: Timeliness of publishing, understanding of questions and terminology used in EIA products, perceptions on data confidentiality and security, appropriateness and relevancy of information published, accuracy of information, courtesy, efficiency of service delivery, and resolution of issues with service delivery. Responses are assessed to plan and inform efforts to improve or maintain the quality of service offered to the public. Advances in technology and service delivery systems in the private sector, have increased the public's expectations of the Government's customer service promise. The Federal Government has a responsibility to streamline and make more efficient its service delivery to better serve the public.

(5) Annual Estimated Number of Respondents: 80,600;

(6) Annual Estimated Number of Total Responses: 80,600;

(7) Annual Estimated Number of Burden Hours: 8,600;

(8) Annual Estimated Reporting and Recordkeeping Cost Burden: $702,190 (8,600 annual burden hours multiplied by $81.65 per hour). EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: Executive Order 12,862 (1993) and Executive Order 13,571 (2011).

Signed in Washington, DC, on December 2, 2021.
Samson A. Adeshiyan,
Director, Office of Statistical Methods and Research, U.S. Energy Information Administration.

[FR Doc. 2021-26476 Filed 12-6-21; 8:45 am]

BILLING CODE 6450-01-P